FEDERAL COMMUNICATIONS COMMISSION

47 CFR Part 64

[CG Docket Nos. 02-278, 21-402, FCC 23-21; FR ID 203992]

Targeting and Eliminating Unlawful Text Messages, Implementation of the Telephone Consumer Protection Act of 1991

AGENCY: Federal Communications Commission.

ACTION: Final rule and announcement of compliance date.

SUMMARY: In this document, the Commission announces that the Office of Management and Budget (OMB) has approved the information collection associated with the rule adopted in the Text Blocking Report and Order requiring mobile wireless providers to block texts purporting to be from North American Numbering Plan (NANP) numbers on a reasonable Do-Not-Originate (DNO) list which include numbers that purport to be from invalid, unallocated, or unused numbers, and NANP numbers for which the subscriber to the number has requested that texts purporting to originate from that number be blocked. This document is consistent with the Text Blocking Report and Order, FCC 23-21, which states the Commission will publish a document in the Federal Register announcing a compliance date for the rule section and revise the rule accordingly.

DATES: This final rule is effective September 3, 2024. Compliance with 47 CFR 64.1200(p), is required as of September 3, 2024.

FOR FURTHER INFORMATION CONTACT: Mika Savir, Attorney Advisor, Consumer Policy Division, Consumer and Governmental Affairs Bureau, at (202) 418-0384 or mika.savir@fcc.gov.

SUPPLEMENTARY INFORMATION: This document announces that OMB approved the information collection requirement in 47 CFR 64.1200(p) on February 12, 2024. The rule was adopted in the Text Blocking Report and Order, FCC 23-21, 88 FR 21497, April 11, 2023. The Commission publishes this document as an announcement of the compliance date of the rules.

If you have any comments on the burden estimates listed below, or how the Commission can improve the collections and reduce any burdens caused thereby, please contact Cathy Williams, Federal Communications Commission, Room 3-317, 45 L Street NE, Washington, DC 20554, regarding OMB Control Number 3060-1322. Please include the applicable OMB Control Number in your correspondence. The Commission will also accept your comments via email at PRA@fcc.gov.

To request materials in accessible formats for people with disabilities (Braille, large print, electronic files, audio format), send an email to fcc504@fcc.gov or call the Consumer and Governmental Affairs Bureau at (202) 418-0530.

In addition, this document removes 47 CFR 64.1200(q), which advised that compliance with the new rules would not be required until 64.1200(q) is removed or the Commission announces a compliance date.

Synopsis

As required by the Paperwork Reduction Act of 1995 (44 U.S.C. 3507), the FCC is notifying the public that it received final OMB approval on February 12, 2024, for the information collection requirement contained in 47 CFR 64.1200(p). Under 5 CFR part 1320, an agency may not conduct or sponsor a collection of information unless it displays a current, valid OMB Control Number.

No person shall be subject to any penalty for failing to comply with a collection of information subject to the Paperwork Reduction Act that does not display a current, valid OMB Control Number. The OMB Control Number for the information collection requirement in 47 CFR 64.1200(p) is 3060-1322.

The foregoing notice is required by the Paperwork Reduction Act of 1995, Public Law 104-13, October 1, 1995, and 44 U.S.C. 3507.

The total annual reporting burdens and costs for the respondents are as follows:

OMB Control Number: 3060-1322.

OMB Approval Date: February 12, 2024.

OMB Expiration Date: February 28, 2027.

Title: Targeting and Eliminating Unlawful Text Messages, Implementation of the Telephone Consumer Protection Act of 1991.

Form Number: N/A.

Respondents: Business or other for profit entities, and state, local or tribal governments.

Number of Respondents and Responses: 2,893 respondents; 34,716 responses.

Estimated Time per Response: 1 hour.

Frequency of Response: On occasion reporting requirement.

Obligation to Respond: Required to obtain or retain benefits. Statutory authority for this information is contained in sections 4(i), 4(j), 154(i), 154(j), 227, 301, 303, 307, and 316.

Total Annual Burden: 34,716 hours.

Total Annual Cost: No cost.

Needs and Uses: Text message-based scams can include links to well-designed phishing websites that appear identical to the website of a legitimate company and can fool a victim into providing personal or financial information. Texted links can also load unwanted software onto a device, including malware that steals passwords, credentials, or other personal information. The FCC is therefore requiring all mobile wireless providers to block certain text messages that are highly likely to be illegal.

In the Text Blocking Report and Order, 88 FR 21497, April 11, 2023, the FCC is requiring mobile wireless providers to block certain text messages that are highly likely to be illegal. The Commission is requiring mobile wireless providers to block—at the network level—texts purporting to be from NANP numbers on a reasonable DNO list, which include numbers that purport to be from invalid, unallocated, or unused numbers, and NANP numbers for which the subscriber to the number has requested that texts purporting to originate from that number be blocked. These are texts that no reasonable consumer would wish to receive because they are highly likely to be illegal.

The FCC is also ensuring that any erroneous blocking can be quickly remedied by requiring mobile wireless providers and other entities to maintain a point of contact for texters to report erroneously blocked texts.

List of Subjects in 47 CFR Part 64

Communications common carriers, Telecommunications, Telephone.

Federal Communications Commission.
Marlene Dortch,
Secretary, Office of the Secretary.

Final Rules

For the reasons discussed in the preamble, the Federal Communications Commission amends 47 CFR part 64 as follows:

PART 64—MISCELLANEOUS RULES RELATING TO COMMON CARRIERS

1. The authority citation for part 64 continues to read as follows:

Authority: 47 U.S.C. 151, 152, 154,201, 202, 217, 218, 220, 222, 225, 226, 227, 227b, 228, 251(a), 251(e), 254(k), 255, 262, 276, 403(b)(2)(B), (c), 616, 620, 716, 1401-1473, unless otherwise noted; Pub. L. 115-141, Div. P, sec. 503, 132 Stat. 348, 1091.

Subpart L—Restrictions on Telemarketing, Telephone Solicitation, and Facsimile Advertising

§ 64.1200 [Amended]

2. Amend § 64.1200 by removing and reserving paragraph (q).

[FR Doc. 2024-03957 Filed 2-29-24; 8:45 am]

BILLING CODE 6712-01-P